DEPARTMENT OF JUSTICE

Antitrust Division

Notice Pursuant to the National Cooperative Research and Production Act of 1993; Global Climate and Energy Project

Notice is hereby given that, on June 10, 2014, pursuant to Section 6(a) of the National Cooperative Research and Production Act of 1993, 15 U.S.C. 4301 et seq. (“the Act”), Global Climate and Energy Project (“GCEP”) has filed written notifications simultaneously with the Attorney General and the Federal Trade Commission disclosing changes in its membership, nature and objectives. The notifications were filed for the purpose of extending the Act's provisions limiting the recovery of antitrust plaintiffs to actual damages under specified circumstances. Specifically, Bank of America, N.A., Charlotte, NC, has been added as a party to this venture. The change in its nature and objectives is that the members of GCEP have amended the agreement between them to update the list of project research that has been authorized by the members and to extend the termination of GCEP from August 31, 2015, to August 31, 2016.

No other changes have been made in either the membership or planned activity of the group research project. Membership in this group research project remains open, and GCEP intends to file additional written notifications disclosing all changes in membership.

On March 12, 2003, GCEP filed its original notification pursuant to Section 6(a) of the Act. The Department of Justice published a notice in the Federal Register pursuant to Section 6(b) of the Act on April 4, 2003 (68 FR 16552).

The last notification was filed with the Department on February 22, 2013. A notice was published in the Federal Register pursuant to Section 6(b) of the Act on March 21, 2013 (78 FR 17430).

Patricia A. Brink,
Director of Civil Enforcement, Antitrust Division.

[FR Doc. 2014-17357 Filed 7-23-14; 8:45 am]

BILLING CODE P